DEPARTMENT OF AGRICULTURE

Forest Service

Notice of Lewis and Clark County Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Helena National Forest's Lewis and Clark County Resource Advisory Committee will meet on Monday December 12 from 3 p.m. until 6 p.m. in Helena, Montana, for its second business meeting. The meeting is open to the public.

DATES: Monday, December 12, 2005.

ADDRESSES: The meeting will be held in the conference room at the Helena Chamber of Commerce, 225 Cruse Avenue, Helena, MT 59601.

FOR FURTHER INFORMATION CONTACT: Duane H. Harp, Designated Forest Official (DFO), District Ranger, Helena Ranger District, Helena National Forest, at (406) 449-5490.

SUPPLEMENTARY INFORMATION: Agenda topics for this meeting include administrative information for members and public comment as authorized under Title II of Public Law 106-393. If the meeting location is changed, notice will be posted in local newspaper, including the Helena Independent Record.

Dated: November 21, 2005.
Sharon A. Scott,
Acting District Ranger, Helena National Forest.

[FR Doc. 05-23358 Filed 11-25-05; 8:45 am]

BILLING CODE 3410-11-M